DEPARTMENT OF COMMERCE

International Trade Administration

[A-580-883]

Certain Hot-Rolled Steel Flat Products From the Republic of Korea: Amended Final Results of Antidumping Duty Administrative Review in Part; 2020-2021

AGENCY: Enforcement and Compliance, International Trade Administration, Department of Commerce.

SUMMARY: The U.S. Department of Commerce (Commerce) is amending the final results of the administrative review, in part, of the antidumping duty order on certain hot-rolled steel flat products from the Republic of Korea (Korea), covering the period of review (POR) October 1, 2020, through September 30, 2021, to correct a ministerial error.

DATES: Applicable May 8, 2023.

FOR FURTHER INFORMATION CONTACT: Christopher Williams, AD/CVD Operations, Office I, Enforcement and Compliance, International Trade Administration, U.S. Department of Commerce, 1401 Constitution Avenue NW, Washington, DC 20230; telephone: (202) 482-5166.

SUPPLEMENTARY INFORMATION:

Background

Commerce published the Final Results of this review in the Federal Register on April 20, 2023.¹ On April 24, 2023, we received a timely submitted ministerial error allegation from Hyundai Steel Company (Hyundai Steel).² We are amending the Final Results to correct the ministerial error raised by Hyundai Steel.

¹ See Certain Hot-Rolled Steel Flat Products from the Republic of Korea: Final Results of Antidumping Duty Administrative Review; 2020-2021, 88 FR 24387 (April 20, 2023) (Final Results).

² See Hyundai Steel's Letter, “Hyundai Steel's Comments on Ministerial Error in Final Results,” dated April 24, 2023.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and if appropriate, correct any ministerial error by amending . . . the final results of review . . . .”

³ See 19 CFR 351.224(f).

Ministerial Error

We agree with Hyundai Steel that Commerce made a ministerial error in the Final Results within the meaning of section 751(h) of the Act and 19 CFR 351.224(f) by inadvertently not updating the program with revised cost data from the Final Results when merging it with U.S. sale data, resulting in an incorrect margin calculation for Hyundai Steel. Accordingly, pursuant to 19 CFR 351.224(e), Commerce is amending the Final Results to reflect the correction of this ministerial error in the calculation of Hyundai Steel's antidumping duty margin rate, which changes from 0.88 percent to 0.84 percent.

For a detailed discussion of Commerce's analysis, see the Ministerial Error Memorandum and Amended Final Results Analysis Memorandum.⁴ Furthermore, we are amending the rate for the companies not selected for individual examination in this review based on the weighted-average dumping margins calculated for the mandatory respondents,⁵ which changes from 0.88 percent to 0.84 percent.

⁴ See Memoranda, “Ministerial Error Memorandum for the Final Results of the Antidumping Duty Administrative Review; 2020-2021: Certain Hot-Rolled Steel Flat Products from the Republic of Korea,” dated concurrently with, and hereby adopted by, this notice (Ministerial Error Memorandum); and “Amended Final Results for Hyundai Steel Company,” dated concurrently with this notice (Amended Final Results Analysis Memorandum).

⁵ The margin for the other mandatory respondent, POSCO (Commerce treated POSCO and POSCO International Corporation as a single entity) remains unchanged from the Final Results and continues to be 0.00 percent.

Amended Final Results of Review

As a result of correcting the ministerial error described above, Commerce determines that the following weighted-average dumping margins exist for the period October 1, 2020, through September 30, 2021:

Producer/exporter | Weighted- average dumping margin (percent)
Hyundai Steel Company | 0.84

Review-Specific Average Rate Applicable to the Following Companies:

Producer/exporter | Weighted- average dumping margin (percent)
Del Trading Inc | 0.84
Dongkuk Industries Co., Ltd | 0.84
Dongkuk Steel Mill Co., Ltd | 0.84
Gs Global Corp | 0.84
Gs Holdings Corp | 0.84
KG Dongbu Steel Co., Ltd | 0.84
Marubeni-Itochu Steel Korea, Ltd | 0.84
Samsung C and T Corporation | 0.84
Snp Ltd | 0.84
Soon Ho Co., Ltd | 0.84
Soon Hong Trading Co. Ltd | 0.84
Sungjin Co., Ltd | 0.84

Disclosure

We intend to disclose the calculations performed in connection with these amended final results of review to parties in this review within five days after public announcement of the amended final results, or if there is no public announcement, within five days of the date of publication of this notice in the Federal Register, in accordance with 19 CFR 351.224(b).

Assessment Rates

Pursuant to section 751(a)(2)(C) of the Act and 19 CFR 351.212(b)(1), Commerce will determine, and U.S. Customs and Border Protection (CBP) shall assess, antidumping duties on all appropriate entries of subject merchandise in accordance with the amended final results of this review.

For Hyundai Steel, we calculated importer-specific assessment rates on the basis of the ratio of the total amount of dumping calculated for each importer's examined sales and the total entered value of those sales in accordance with 19 CFR 351.212(b)(1). Where an importer-specific assessment rate is de minimis (i.e., less than 0.5 percent), the entries by that importer will be liquidated without regard to antidumping duties. Because POSCO's weighted-average dumping margin was not changed in these amended final results, we will continue to instruct CBP to liquidate POSCO's entries without regard to duties in accordance with 19 CFR 351.106(c)(1).

For entries of subject merchandise during the POR produced by Hyundai Steel for which it did not know that its merchandise was destined for the United States, we will instruct CBP to liquidate unreviewed entries at the all-others rate if there is no rate for the intermediate company(ies) involved in the transaction.

For the companies identified above that were not selected for individual examination, we will instruct CBP to liquidate entries at the rate established in these amended final results of review.

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following amended cash deposit requirements will be retroactively effective for all shipments of subject merchandise that entered, or were withdrawn from warehouse, for consumption on or after April 20, 2023, the date of publication of the Final Results of this administrative review, as provided for by section 751(a)(2)(C) of the Act: (1) the amended cash deposit rate for the companies listed above will be equal to the weighted-average dumping margin established in these amended final results of review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; (4) the cash deposit rate for all other producers or exporters will continue to be 6.05 percent, the all-others rate established in the less-than-fair-value investigation for this proceeding.⁶ These amended cash deposit requirements, when imposed, shall remain in effect until further notice.

⁶ See Order, 81 FR at 67963, 67965.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

We are issuing and publishing these amended final results of review in accordance with sections 751(h) and 777(i) of the Act and 19 CFR 351.224(e).

Dated: May 2, 2023.
Abdelali Elouaradia,
Deputy Assistant Secretary for Enforcement and Compliance.

[FR Doc. 2023-09729 Filed 5-5-23; 8:45 am]

BILLING CODE 3510-DS-P